DEPARTMENT OF LABOR

Employment and Training Administration

20 CFR Part 655

[Docket No.

RIN 1205-AB24

Labor Certification and Petition Process for the Temporary Employment of Nonimmigrant Aliens in Agriculture in the United States; Modification of Fee Structure; Reopening and Extension of Comment Period

AGENCY: Employment and Training Administration, Labor.

ACTION: Proposed rule; reopening and extension of comment period.

SUMMARY: This document reopens and extends the period for filing comments on the proposed rule that would require employers to submit the fees for labor certification and the associated H-2A petition with a consolidated application form at the time of filing. The proposed rule also would modify the fee structure for H-2A labor certification applications. This action is taken to permit additional comment from interested persons

EFFECTIVE DATE: Interested persons are invited to submit written comments on or before September 18, 2000.

ADDRESSES: Submit written comments to the Assistant Secretary for Employment and Training, U.S. Department of Labor, 200 Constitution Avenue, NW., Washington, DC 20210, Attention: Dale Ziegler, Chief, Division of Foreign Labor Certifications, 200 Constitution Avenue, NW., Room N-4318, Washington, D.C. 20210. Telephone: (202) 219-3010 (this is not a toll-free number).

SUPPLEMENTARY INFORMATION: In the Federal Register of July 13, 2000, (65 FR 43545-43583), we published a proposed rule to require employers to submit the fees for labor certification and the associated H-2A petition with a consolidated application form at the time of filing. The proposal also would modify the fee structure for H-2A labor certification applications.

Because of the continuing interest in this proposal, we believe it is desirable to extend the comment period for all interested persons. Therefore, the comment period for the proposed rule, revising 20 CFR Part 655, Subpart B (Labor Certification Process for Temporary Agricultural Employment in the United States (H-2A Workers)) is reopened and extended through September 18, 2000.

Signed at Washington, DC, this 11th day of August, 2000.
Raymond L. Bramucci,
Assistant Secretary of Labor for Employment and Training.

[FR Doc. 00-20855 Filed 8-15-00; 11:27 am]

BILLING CODE 4510-30-M